DEPARTMENT OF TRANSPORTATION

Maritime Administration

[Docket No. MARAD-2020-0094]

Request for Comments of a Previously Approved Information Collection: War Risk Insurance, Applications and Related Information

AGENCY: Maritime Administration, DOT.

ACTION: Notice and request for comments.

SUMMARY: In compliance with the Paperwork Reduction Act of 1995, this notice announces that the Information Collection Request (ICR) abstracted below is being forwarded to the Office of Management and Budget (OMB) for review and comments. A Federal Register Notice with a 60-day comment period soliciting comments on the following information collection was published on April 28, 2020.

DATES: Comments must be submitted on or before August 12, 2020.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Michael Yarrington, 202-366-1915, Office of Marine Insurance, Maritime Administration, U.S. Department of Transportation, 1200 New Jersey Avenue SE, Washington, DC, 20590.

SUPPLEMENTARY INFORMATION:

Title: War Risk Insurance, Applications and Related Information.

OMB Control Number: 2133-0011.

Type of Request: Renewal of a Previously Approved Information Collection.

Background: The U.S. Government's War Risk Insurance program is a standby emergency program for national defense and national security. It becomes effective upon and simultaneously with the automatic termination of ocean marine commercial war risk insurance policies. Those policies are automatically terminated upon the outbreak of war, whether declared or not, between any of the five great powers (United States of America, United Kingdom, France, People's Republic of China, the Russian Federation) or upon the hostile detonation of a weapon of war employing atomic or nuclear fission.

The War Risk Insurance program makes it possible for applicants to obtain war risk insurance from the U.S. Government when such insurance is unavailable on reasonable terms from the commercial market. The program is mutually beneficial to the United States and to the shipowner in that it assures continued flow of essential U.S. trade and provides protection for the ship owner from loss by risks of war.

Respondents: Vessel owners or charterers interested in participating in MARAD's war risk insurance program.

Affected Public: Business or other for profit.

Total Estimated Number of Responses: 20.

Frequency of Collection: Annually.

Estimated time per Respondent: 12.8 hours.

Total Estimated Number of Annual Burden Hours: 256.

Public Comments Invited: Comments are invited on: whether the proposed collection of information is necessary for the proper performance of the functions of the Department, including whether the information will have practical utility; the accuracy of the Department's estimate of the burden of the proposed information collection; ways to enhance the quality, utility and clarity of the information to be collected; and ways to minimize the burden of the collection of information on respondents, including the use of automated collection techniques or other forms of information technology.

(AUTHORITY: The Paperwork Reduction Act of 1995; 44 U.S.C. Chapter 35, as amended; and 49 CFR 1.93)

* * *

Dated: July 7, 2020.
By Order of the Maritime Administrator.
T. Mitchell Hudson, Jr.,
Secretary, Maritime Administration.

[FR Doc. 2020-14959 Filed 7-10-20; 8:45 am]

BILLING CODE 4910-81-P